DEPARTMENT OF THE TREASURY

Customs Service

[T.D. 01-52]

Cancellation of Customs Broker Licenses

AGENCY: Customs Service; Department of the Treasury.

ACTION: Customs broker license cancellations.

SUMMARY: In a document published in the Federal Register on July 20, 2001, Customs set forth, pursuant to section 641 of the Tariff Act of 1930, as amended (19 U.S.C. 1641) and the Customs Regulations (19 CFR 111), a list of Customs brokers whose licenses are cancelled. The wrong Treasury Decision (T.D.) number was inadvertently assigned to the document. This document corrects that error by redesignating the document as T.D. 01-52.

Correction of Publication

In the Federal Register issue of July 20, 2001, in FR Document 01-18163, on page 38053, in the third column, correct the line above the title of the document which sets forth the T.D. number to read as set forth above.

Dated: July 20, 2001.
Harold M. Singer,
Chief, Regulations Branch.

[FR Doc. 01-18587 Filed 7-25-01; 8:45 am]

BILLING CODE 4820-02-P